DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 34643-34644, dated June 6, 2015) is amended to reflect the reorganization of the National Institute for Occupational Safety and Health, Centers for Disease Control and Prevention.

Section C-B, Organization and Functions, is hereby amended as follows:

Delete in its entirety the title and function statements for the Division of Respiratory Disease Studies (CCH) and insert the following:

Respiratory Health Division (CCH). The Respiratory Health Division (RHD) seeks to advance protection against work-related hazards and exposures that cause or contribute to respiratory illness, injury, and death and to promote workplace-based interventions that improve respiratory health. To accomplish its mission, the Division gathers and synthesizes information, makes recommendations, and delivers products and services to a range of stakeholders, including partners able to effect prevention. Specifically, RHD: (1) Prevents work-related respiratory disease and improves workers' respiratory health by generating new knowledge and transferring that knowledge into practice; (2) plans, designs, and conducts a national research program relevant to preventing occupational respiratory disease and optimizing workers' respiratory health; (3) upon request, conducts hazard evaluations and provides technical assistance to address challenges, including emerging issues, in occupational respiratory disease; (4) plans, designs, and conducts a national surveillance program for occupational and work-related respiratory disease; (5) communicates study findings to prevent occupational respiratory disease and optimize workers' respiratory health, and evaluates the effectiveness of these communications; (6) administers a program of legislatively mandated medical monitoring services for coal miners under the Federal Mine Safety and Health Act of 1977; and (7) provides rewarding educational and training opportunities in occupational and work-related respiratory disease prevention to visiting scientists, Epidemiologic Investigations Service Officers, fellows, residents, interns, students and others through a variety of temporary assignments in various Division activities.

Office of the Director (CCH1). Directs and manages the operations of the Respiratory Health Division.

Field Studies Branch (CCHB). (1) Plans, designs, and conducts short- and long-term field investigations relevant to preventing occupational respiratory diseases and optimizing workers' respiratory health; (2) responds to requests for health hazard evaluations and technical assistance relevant to occupational respiratory disease; (3) conducts morbidity and mortality studies relating to occupational respiratory diseases in selected worker populations and the general population in order to identify causal agents and other risk factors, quantify exposure effect relationships, and evaluate prevalence and severity of specific respiratory diseases; (4) conducts environmental studies, medical test evaluations, industrial hygiene research, laboratory research, demonstrations of workplace exposures and controls, and studies the challenges created by new technologies; (5) provides statistical design and implements data analysis and verification for Division research projects; and (6) develops and evaluates research methods of data collection, processing, and statistical analysis that are relevant to the Division mission, including medical tests, sampling approaches and equipment, sample analyses, exposure and dose assessment and modeling (including dermal exposure), bioavailability of exposures, biomarkers of exposure and health effects, and protective measures.

Surveillance Branch (CCHD). (1) Collects, analyzes, and disseminates accurate and timely health and hazard information related to occupational respiratory diseases and workers' respiratory health, and collaborates in the establishment and analysis of health surveillance systems at the national and state level in order to: (a) provide information relating to overall incidence, prevalence, mortality, and impact of occupational respiratory diseases and workers' respiratory health; (b) describe the occurrence of specific diseases with regard to occupation, industry, exposures, geography, demographic characteristics, temporal trends, and other relevant factors for which information is available; (c) describe the distribution and trends in occupational exposure to agents responsible for respiratory diseases; (d) identify emerging risks for respiratory disease; (e) assess racial/ethnic and other disparities in the occurrence of occupational respiratory diseases and occupational exposures to agents responsible for respiratory diseases; and (f) evaluate impact of interventions, policies, and program activities on the occurrence of occupational respiratory disease; (2) synthesizes data to frame recommendations for priority setting, hypothesis generation, and improved methods for data collection; (3) disseminates information through development and publication of timely information and reports describing workplace hazards and exposures and work-related occupational lung diseases, and application of communication science, media principles, and web design to enhance access to and use of data and information; (4) develops and evaluates innovative surveillance methods; (5) coordinates with other Federal agencies, promulgates rules, and implements programs as authorized by the Federal Mine Safety and Health Act of 1977 and its subsequent amendments, to provide for the collection and reporting of health and hazard surveillance data related to occupational respiratory diseases in coal miners, including planning, coordinating, and processing the medical examinations provided for miners, operating an approval program for participating medical facilities and physicians, and evaluating and approving employer programs for the examination of miners in accordance with published regulations; (6) provides technical assistance and recommendations concerning medical screening and health surveillance of workers exposed to respiratory hazards in the workplace, including administering a national program of spirometry training, providing training and testing on the classification of radiographs for the pneumoconioses, and collaborating with national (e.g., American College of Radiology, American Thoracic Society) and international (e.g., International Labour Organization) groups to develop and improve occupational respiratory disease medical surveillance methods; and (7) establishes collaborations to identify, support, and evaluate interventions designed to improve respiratory health in the workplace.

James Seligman,
Acting Chief Operating Officer, Centers for Disease Control and Prevention.

[FR Doc. 2015-24006 Filed 9-21-15; 8:45 am]

BILLING CODE 4160-18-P